DEPARTMENT OF TRANSPORTATION

Bureau of Transportation Statistics

[Docket ID Number: DOT-OST-2014-0031]

Agency Information Collection: Activity Under OMB Review; Part 249, Preservation of Records

AGENCY: Office of the Assistant Secretary for Research and Technology (OST-R), Bureau of Transportation Statistics (BTS), DOT.

ACTION: Notice.

SUMMARY: In compliance with the Paperwork Reduction Act of 1995 (44 U.S.C. 3501 et seq.), this notice announces that the Information Collection Request (ICR) abstracted below has been forwarded to the Office of Management and Budget (OMB) for reinstatement of an expired collection. The ICR describes the nature of the information collection and its expected burden. The Federal Register Notice with a 60-day comment period soliciting comments on the following collection of information was published on August 12, 2025 (90 FR page 38883). DOT received a comment from an individual stating that this agency collection for the Department of Transportation is necessary for retaining all records for the purposes to verify and support Aircraft's operational records and ensure the accuracy for invoicing and safety requirements for the DOT storage of aircraft flights. This will confirm the fact of maintenance requirements performed, safety check inspections and data log of work performed on all aircrafts for important timeline reference in the event of any incident or accident. In the aircraft safety measures, for record keeping purposes, the data must be maintained and archived for use of reference to confirm potential source of problems detected. A second was received and stated: The Department of Transportation should approve this requirement for all regulatory matters and other administrative functions applicable to the various cases for the proper procedures and authorization to proceed with this mission. It is the upmost important step to facilitate actions required. A third comment was also received, Preservation of Record, Kelly Moore, Harlan Moore, Aubry Moore, Kay LeJeune. Will be part of the Department of Transportation's list of the team departing for the mission. Notice and confirmation., We note that this PRA action pertains only to how long air carriers must retain certain records, including any complaints received. DOT is not in any way through this PRA action affecting the ability of persons to file a complaint against an air carrier.

DATES: Written comments should be submitted by January 5, 2026.

ADDRESSES: Comments: Written comments and recommendations for the proposed information collection should be sent within 30 days of publication of this notice to www.reginfo.gov/public/do/PRAMain. Find this particular information collection by selecting “Currently under 30-day Review—Open for Public Comments” or by using the search function.

FOR FURTHER INFORMATION CONTACT: Jennifer Rodes, Office of Airline Information, RTS-42, OST-R, BTS, 1200 New Jersey Avenue SE, Washington, DC 20590-0001, Telephone Number (202) 366-8513, Fax Number (202) 366-3383 or EMAIL Jennifer.rodes@dot.gov.

SUPPLEMENTARY INFORMATION:

OMB Approval No. 2138-0006.

Title: Preservation of Air carrier Records—14 CFR part 249.

Form No.: None.

Type of Review: Extension of a currently approved collection.

Respondents: Certificated air carriers and charter operators.

Number of Respondents: 89 certificated air carriers and 280 charter operators.

Estimated Time per Response: 3 hours per certificated air carrier, 1 hour per charter operator.

Total Annual Burden: 547 hours.

This collection needs a new OMB control number as it was previously and erroneously entered into ROCIS as a generic collection.

Needs and Uses: Part 249 requires the retention of records such as: general and subsidiary ledgers, journals and journal vouchers, voucher distribution registers, accounts receivable and payable journals and legers, subsidy records documenting underlying financial and statistical reports to DOT, funds reports, consumer records, sales reports, auditors' and flight coupons, air waybills, etc. Depending on the nature of the document, the carrier may be required to retain the document for a period of 30 days to 3 years. Public charter operators and overseas military personnel charter operators must retain documents which evidence or reflect deposits made by each charter participant and commissions received by, paid to, or deducted by travel agents, and all statements, invoices, bills and receipts from suppliers or furnishers of goods and services in connection with the tour or charter. These records are retained for 6 months after completion of the charter program.

Not only is it imperative that carriers and charter operators retain source documentation, but it is critical that we ensure that DOT has access to these records. Given DOT's established information needs for such reports, the underlying support documentation must be retained for a reasonable period of time. Absent the retention requirements, the support for such reports may or may not exist for audit/validation purposes and the relevance and usefulness of the carrier submissions would be impaired, since the data could not be verified to the source on a test basis.

The Confidential Information Protection and Statistical Efficiency Act of 2002 (44 U.S.C. 3501 note), requires a statistical agency to clearly identify information it collects for non-statistical purposes. BTS hereby notifies the respondents and the public that BTS uses the information it collects under this OMB approval for non-statistical purposes including, but not limited to, publication of both Respondent's identity and its data, submission of the information to agencies outside BTS for review, analysis and possible use in regulatory and other administrative matters.

Comments are invited on: whether the proposed record retention requirements are necessary for the proper performance of the functions of the Department. Comments should address whether the information will have practical utility; the accuracy of the Department's estimate of the burden of the proposed information collection; ways to enhance the quality, utility and clarity of the information to be collected; and ways to minimize the burden of the collection of information on respondents, including the use of automated collection techniques or other forms of information technology.

Issued in Washington, DC, on December 2, 2025.
Rolf Schmitt,
Acting Director, Office of Airline Information, Bureau of Transportation Statistics.

[FR Doc. 2025-21939 Filed 12-3-25; 8:45 am]

BILLING CODE 4910-9X-P